DEPARTMENT OF AGRICULTURE

Animal and Plant Health Inspection Service

9 CFR Part 94

[Docket No. 01-032-1]

Prohibition of Beef From Argentina

AGENCY: Animal and Plant Health Inspection Service, USDA.

ACTION: Interim rule and request for comments.

SUMMARY: We are amending the regulations by removing the provisions for the importation of fresh (chilled or frozen) beef from Argentina and by removing the exemptions that allowed cured or cooked beef to be imported from Argentina under certain conditions without meeting the requirements of the regulations regarding cured and cooked meat from regions where rinderpest or foot-and-mouth disease exists. We are taking these actions because the existence of foot-and-mouth disease has been confirmed in that country. The effect of these actions is to prohibit the importation of any fresh (chilled or frozen) beef from Argentina and to prohibit the importation of any cooked or cured beef from Argentina that does not meet the requirements of the regulations regarding cured and cooked meat from regions where rinderpest or foot-and-mouth disease exists. We are taking these actions as an emergency measure to protect the livestock of the United States from foot-and-mouth disease.

DATES: This interim rule was effective on February 19, 2001. We invite you to comment on this docket. We will consider all comments that we receive by August 3, 2001.

ADDRESSES: Please send four copies of your comment (an original and three copies) to: Docket No. 01-032-1, Regulatory Analysis and Development, PPD, APHIS, Suite 3C03, 4700 River Road, Unit 118, Riverdale, MD 20737-1238.

Please state that your comment refers to Docket No. 01-032-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Gary Colgrove, Chief Staff Veterinarian, National Center for Import and Export, VS, APHIS, 4700 River Road Unit 38, Riverdale, MD 20737-1231; (301) 734-3276.

SUPPLEMENTARY INFORMATION:

Background

The regulations in 9 CFR part 94 (referred to below as the regulations) govern the importation of specified animals and animal products into the United States in order to prevent the introduction of various animal diseases including rinderpest, foot-and-mouth disease (FMD), African swine fever, hog cholera, and swine vesicular disease. These are dangerous and destructive communicable diseases of ruminants and swine. Section 94.1 of the regulations lists regions of the world that are declared free of rinderpest or free of both rinderpest and FMD. Rinderpest or FMD exists in all other regions of the world not listed.

Although Argentina is currently not listed in § 94.1, the regulations do provide for the importation of fresh (chilled or frozen) beef from Argentina under certain conditions. Specifically, under § 94.21, fresh (chilled or frozen) beef may be imported from Argentina if, among other things, FMD has not been diagnosed in Argentina within the previous 12 months. Additionally, cured or cooked beef from Argentina that meets the requirements for the importation of fresh (chilled or frozen) beef in § 94.21 may be imported into the United States without meeting the requirements of § 94.4.

On or about July 22, 2000, cattle from a neighboring country were illegally imported into Argentina, and on August 16, 2000, Argentina confirmed that one of the imported animals was infected with FMD. At that time, the United States Department of Agriculture (USDA) imposed a temporary hold on the importation of all beef from Argentina that had been authorized to be imported under § 94.21. During late September and early October 2000, a tripartite delegation consisting of representatives from the United States, Canada, and Mexico visited Argentina to assess the FMD situation. After extensive inspection and evaluation, the tripartite delegation concluded that Servicio Nacional de Sanidad y Calidad Agroalimentario (SENASA) had acted promptly and effectively to eliminate the FMD infection.

Further, Veterinary Services staff members of the Animal and Health Inspection Service (APHIS), produced a risk assessment document to explore the potential FMD risks associated with importing beef from Argentina under the provisions of § 94.21. This report concluded that the August 2000 outbreak of FMD, which resulted from the illegal movement of animals into Argentina from a bordering country, had been quickly detected and contained.

In consideration of SENASA's prompt action and the conclusions of the risk analysis, we issued an interim rule on December 29, 2000 (65 FR 82894-82896, Docket No. 00-079-1), that allowed beef imports from Argentina to resume under § 94.21. In that interim rule, we also amended § 94.21 by adding additional provisions to ensure that beef being exported to the United States was not from an animal that had ever been in specified areas along Argentina's borders with Bolivia, Brazil, Paraguay, and Uruguay.

However, on March 12, 2001, Argentina reported to the Office International des Epizooties (OIE) and the United States that they had detected an outbreak of FMD in a herd of 300 young bulls in the province of Buenos Aires. Subsequently, within the following 4 days, SENASA informed the OIE and the United States with clinical confirmation of the existence of FMD in four additional provinces. Since these initial detections, the number of confirmed cases has increased steadily. The affected provinces currently include Buenos Aires, Cordoba, La Pampa, San Luis, and Santa Fe. SENASA is investigating the FMD outbreak, conducting extensive serological surveillance, and implementing a vaccination program to attempt to confine the virus.

In order to protect the livestock of the United States from FMD, we are prohibiting the importation of fresh (chilled or frozen) beef from Argentina and any cured or cooked beef from Argentina that does not meet the requirements of § 94.4. Accordingly, we are amending the regulations by removing § 94.21, which provides for the importation of fresh (chilled or frozen) beef from Argentina. We are also amending § 94.4 to remove the provisions that exempt cooked or cured beef from Argentina from that section's requirements.

We are making this interim rule effective retroactively to February 19, 2001, because, given the significant numbers of affected animals and regions, it is likely that the virus was present in Argentina for several weeks prior to the March 12, 2001, date SENASA reported that FMD had been detected in the province of Buenos Aires.

Emergency Action

This rulemaking is necessary on an emergency basis to prevent the introduction of FMD into the United States. Under these circumstances, the Administrator has determined that prior notice and opportunity for public comment are contrary to the public interest and that there is good cause under 5 U.S.C. 553 for making this rule effective less than 30 days after publication in the Federal Register.

We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. For this action, the Office of Management and Budget has waived its review process required by Executive Order 12866.

We are amending the regulations by removing the provisions for the importation of fresh (chilled or frozen) beef from Argentina and by removing the exemptions that allowed cured or cooked beef to be imported from Argentina under certain conditions without meeting the requirements of the regulations regarding cured and cooked meat from regions where rinderpest or FMD exists. We are taking these actions because the existence of FMD has been confirmed in that country. The effect of these actions is to prohibit the importation of any fresh (chilled or frozen) beef from Argentina and to prohibit the importation of any cooked or cured beef from Argentina that does not meet the requirements of the regulations regarding cured and cooked meat from regions where rinderpest or FMD exists. We are taking these actions as an emergency measure to protect the livestock of the United States from FMD.

FMD is among the most infectious and destructive of all livestock diseases. While it rarely kills adult animals, the virus may kill young and weak animals. Production losses are substantial, and costs to eradicate the disease are high. A single outbreak of FMD in the United States has the potential to close our major livestock export markets overnight. During the eradication process, most exports of meat, animals, and animal byproducts would be curtailed. Additionally, if the early signs of an outbreak were not immediately recognized, eradication could take years. Therefore, efforts to reduce the risk of the entry of FMD into the United States continue to be a high priority.

Imports of infected animal products pose the greatest risk of entry for FMD into the United States. The virus can survive in chilled, frozen, salted, cured, and partially cooked meats. Additionally, the virus can also be present in cheese, since the pasteurization process does not completely kill the virus. Strict quarantine regulations minimize the risk of any infected products entering the United States. With the exception of North and Central America (north of Panama), Australia, and New Zealand, FMD is still present in many areas of the world. FMD was last reported in the United States in 1929, in Canada in 1952, and in Mexico in 1954.

The United States livestock industry plays a significant role in international trade. Maintaining favorable trade conditions depends, in part, on continued aggressive efforts to prevent the entry of FMD into the United States. In 1999, the last year of available data, the total earnings from exports of live cattle, swine, beef and veal, pork, and dairy products were approximately $4.818 billion, while the value of imports was $5.671 billion. Livestock and related exports generated about $11.7 billion in output sales and created about 100,000 jobs in the United States.

The quantity of all U.S. fresh beef imports equals only about one-tenth of the amount produced domestically. Over the last 4 years, fresh beef imported into the United States from Argentina has averaged only 1.7 percent of total beef imports. Additionally, the amount of cooked and cured meats imported into the United States from Argentina is not significant. In fact, the value of these imports has declined steadily in the past 6 years. Subsequently, we expect that this interim rule will have an insignificant effect on U.S. entities, small or large. We do expect that this rule will produce economic benefits by minimizing the risk of FMD entering the United States with little to no effect on supply or consumer prices.

Under these circumstances, the Administrator of the Animal and Plant Health Inspection Service has determined that this action will not have a significant impact on a substantial number of small entities.

Executive Order 12988

This rule has been reviewed under Executive Order 12988, Civil Justice Reform. This rule: (1) Preempts all State and local laws and regulations that are inconsistent with this rule; (2) has retroactive effect to February 19, 2001; and (3) does not require administrative proceedings before parties may file suit in court challenging this rule.

Paperwork Reduction Act

This rule contains no new information collection or recordkeeping requirements under the Paperwork Reduction Act of 1995 (44 U.S.C. 3501 et seq).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: 7 U.S.C. 450, 7711, 7712, 7713, 7714, 7751, and 7754; 19 U.S.C. 1306; 21 U.S.C. 111, 114a, 134a, 134b, 134c, 134f, 136, and 136a; 31 U.S.C. 9701; 42 U.S.C. 4331 and 4332; 7 CFR 2.22, 2.80, and 371.4.

§ 94.1 [Amended]

2. Paragraph (a)(1) of § 94.1 is amended by removing the words “Except as provided in § 94.21, rinderpest” and replacing them with the word “Rinderpest”.

§ 94.4 [Amended]

3. Section 94.4 is amended as follows:

a. Paragraph (a) is amended by removing the words “Except for cured beef from Argentina that meets the requirements for the importation of fresh, chilled or frozen, beef as provided in § 94.21, the” and replacing them with the word “The”.

b. Paragraph (b) is amended by removing the words “Except for cooked beef from Argentina that meets the requirements for the importation of fresh, chilled or frozen, beef as provided in § 94.21, the” and replacing them with the word “The”.

§ 94.21 [Removed and reserved]

4. Section 94.21 is removed and reserved.

Done in Washington, DC, this 29th day of May 2001.
Craig A. Reed,
Administrator, Animal and Plant Health Inspection Service.

[FR Doc. 01-13914 Filed 6-1-01; 8:45 am]

BILLING CODE 3410-34-P